DEPARTMENT OF THE INTERIOR

Fish and Wildlife Service

[FWS-R2-R-2011-N179; XRS12610200000S3-123-FFO2R06000]

Sequoyah National Wildlife Refuge, Sequoyah, Muskogee, and Haskell Counties, OK; Comprehensive Conservation Plan and Environmental Impact Statement

AGENCY: Fish and Wildlife Service, Interior.

ACTION: Notice of intent; request for comments.

SUMMARY: We, the U.S. Fish and Wildlife Service (Service), intend to prepare a comprehensive conservation plan (CCP) for Sequoyah National Wildlife Refuge (NWR; Refuge) in Sequoyah, Muskogee, and Haskell Counties, Oklahoma. An environmental impact statement (EIS) evaluating effects of various CCP alternatives will also be prepared. We provide this notice in compliance with our CCP policy to advise other Federal and State agencies, Tribes, and the public of our intentions, and to obtain suggestions and information on the scope of issues to consider in the planning process. We are also requesting public comments. This notice also advises the public that we have reconsidered a 1998 notice, in which we announced our intention to develop a CCP and environmental assessment for the Refuge. Comments already received in response to the previous notice will be considered during preparation of the subject CCP/EIS. You do not need to resend those comments.

DATES: To ensure consideration, please send your written comments by April 10, 2012. We will announce additional opportunities for public input in local news media throughout the CCP process.

ADDRESSES: Send your comments or requests for more information by any of the following methods.

Email: SequoyahNWRCCP-EIS@fws.gov.

Fax: Attention: Carol Torrez, NEPA Coordinator, at 505-248-6803.

U.S. Mail: Carol Torrez, NEPA Coordinator, U.S. Fish and Wildlife Service, Southwest Regional Office, P.O. Box 1306, Albuquerque, NM 87103.

In-Person Drop-off: You may drop off comments Monday through Friday, 7:30 a.m. to 4 p.m., at the Sequoyah NWR office headquarters, Route 1, Vian, OK.

FOR FURTHER INFORMATION CONTACT: Jeff Haas, Refuge Manager, Sequoyah NWR, Route 1, Box 18-A, Vian, OK 74962; phone: 918-773-5251 x 29; fax: 918-773-5598; or Carol Torrez, NEPA Coordinator, Southwest Regional Office, by phone at 505-248-6821, or at the address or fax above. If you use a telecommunications device for the deaf (TDD), please call the Federal Information Relay Service (FIRS) at 800-877-8339.

SUPPLEMENTARY INFORMATION:

Introduction

With this notice, we continue our process for developing a CCP for Sequoyah NWR in Sequoyah, Muskogee, and Haskell Counties, OK. This notice complies with our CCP policy, and the National Environmental Policy Act of 1969, as amended (NEPA) (42 U.S.C. 4321 et seq.), to (1) Advise other Federal and State agencies, Tribes, and the public of our intention to conduct detailed planning on this Refuge, and (2) obtain suggestions and information on the scope of issues to consider in the environmental document and during development of the CCP.

Background

The CCP Process

The National Wildlife Refuge System Administration Act of 1966 (16 U.S.C. 668dd-668ee), as amended by the National Wildlife Refuge System Improvement Act of 1997 (Improvement Act), requires the Service to develop a CCP for each national wildlife refuge. The purpose for developing a CCP is to provide refuge managers with a 15-year plan for achieving refuge purposes and contributing toward the mission of the National Wildlife Refuge System (NWRS), consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Improvement Act.

Each unit of the NWRS was established for specific purposes. We use these purposes as the foundation for developing and prioritizing the management goals and objectives for each refuge within the NWRS mission, and to determine how the public can use each refuge. The planning process is a way for the Service and the public to evaluate management goals and objectives that will ensure the best possible approach to wildlife, plant, and habitat conservation, while providing for wildlife-dependent recreation opportunities that are compatible with each refuge's establishing purposes and the mission of the NWRS.

Our CCP process provides participation opportunities for Tribal, State, and local governments; agencies; organizations; and the public. At this time, we encourage input in the form of issues, concerns, ideas, and suggestions for the future management of Sequoyah NWR.

Sequoyah National Wildlife Refuge

In 1970, Sequoyah NWR was established on the Robert S. Kerr Reservoir as an overlay of a U.S. Army Corps of Engineers' project under the authority of the Fish and Wildlife Coordination Act (16 U.S.C. 664), expressly for migratory waterfowl.

The Refuge manages 20,800 acres of habitat for wildlife and allows for a variety of public use opportunities and experiences. The majority of the Refuge is comprised of large interior floodplain and riparian forests. Current habitat management includes the maintenance of wetlands and moist-soil units, farming of 2,754 acres by cooperative farmers, occasional prescribed burning, and invasive species control. The Refuge provides for more than 470 native wildlife species, including but not limited to: Wild turkeys, bald eagles, prothonotary warblers, wood ducks, mallards, teal, common snipe, alligator snapping turtles, white-tailed deer, map turtles, snow geese, and green tree frogs. Public use activities include all six wildlife-dependent uses: Hunting, fishing, wildlife observation, photography, interpretation, and environmental education. The Refuge allows some use supportive of these six so long as they are compatible with the Refuge's purpose and goals.

Previous Actions

We previously published a notice of intent on June 19, 1998 (63 FR 33693), stating that we intended to prepare a CCP and EA for Sequoyah NWR. We held a public meeting in March 1999, in Vian, OK. Progress continued, albeit slowed due to staff and priority changes, through fall 2009. Another scoping meeting, announced in local newspapers, was held at the Refuge Headquarters on February 23, 2010; seventeen members of the public attended this meeting and provided comments.

During the summer of 2010, the Southwest Region of the Service initiated a review of all farming programs on national wildlife refuges in the region to ensure that the programs were consistent with current laws and policies such as the National Environmental Policy Act of 1969 (42 U.S.C. 4321 et seq.) and the National Wildlife Refuge System Improvement Act of 1997, and that they met the purposes for which the refuges were established. At that time, this effort was separate from the CCP planning process. Scoping for the environmental assessment (EA) on use of specified genetically modified crops in association with the cooperative farming program at Sequoyah NWR began on July 1, 2010. A draft EA on the use of genetically modified crops in association with the cooperative farming program was released on April 1, 2011. The comment period was open through May 16, 2011.

Based on the public comments already received, and subsequent developments since scoping, we have decided to combine the assessment of using specified genetically modified crops into the CCP and determined that an environmental impact statement (EIS) would be more appropriate than an EA to ensure that a full and fair discussion of all significant environmental impacts occurs, and to inform decision-makers and the public of the reasonable alternatives that would avoid or minimize adverse impacts and enhance the quality of the human environment. All comments we received since 1998 from scoping and meetings held on the Sequoyah National Wildlife Refuge Comprehensive Conservation Plan and the 2010 scoping effort on the Draft EA for Use of Specified Genetically Modified Crops and Chemical Herbicides in Conjunction with the Cooperative Farming Program on the Sequoyah National Wildlife Refuge, will still be considered during the EIS planning process, so you do not need to resubmit them. We will conduct the environmental review of this project and develop an EIS in accordance with the requirements of NEPA, NEPA regulations (40 CFR parts 1500-1508), other appropriate Federal laws and regulations, and our policies and procedures for compliance with those laws and regulations.

Scoping: Preliminary Issues, Concerns, and Opportunities

We have identified preliminary issues, concerns, and opportunities that we will address in the CCP. We have briefly summarized some of these issues below. During public scoping, we may identify additional issues.

Habitat

Concerns related to the restoration of floodplain forests and cooperative farming exist both among the public and the Refuge staff. Past tree plantings were aimed at habitat improvement and carbon sequestration; they also resulted in the closure of open areas that facilitate public opportunities for hunting and farming.

Sequoyah NWR has an on-Refuge cooperative farming program, which has a long history. This farmed acreage has been reduced over the years. Topics of concern regarding the Refuge's farming program include: (1) The number of acres farmed; (2) the methods and crops used; (3) the use of genetically modified crops (the most significant issue identified); and (4) the use of pesticides.

The issue of invasive species also exists on the Refuge, including the expansion of current colonies, the introduction of new species, and the new locations of colonies. The potential effect of climate change on Refuge habitat and associated wildlife populations was another concern expressed. Other scoping issues included wetland and riparian habitat restoration, land acquisition and easement efforts, and water quality.

Wildlife

Endangered species and other species of concern are a management focus of the Refuge. The Interior least tern was listed as endangered in 1985, and the American burying beetle was listed in 1989; both of these endangered species reside at Sequoyah National Wildlife Refuge and are managed under their respective recovery plans. The alligator snapping turtle is another species of concern on the Refuge, as the creeks, lakes, wetlands, and riparian areas at Sequoyah contain the unique habitat requirements that this species needs. Although the population of the alligator snapping turtle has been declining, the Refuge retains one of the largest populations of the turtle in the area. The planning team is concerned with ensuring that viable populations of these species are maintained.

Public Use

The appropriate balance of wildlife-dependent recreation opportunities with fish and wildlife conservation is very important to the Refuge. The interpretative and educational opportunities, materials, and facilities at Sequoyah are outdated or in need of improvements. Some members of the public are concerned about their access to and opportunities for hunting and fishing, which are the largest public uses on the Refuge. Other members of the public prefer minimizing these programs or eradicating them altogether. Increase of and improvements to the Refuge's wildlife observation and photography opportunities may also be warranted.

Facilities

Concern exists over access to the Refuge, the quality and abundance of public use facilities, and the development and maintenance of administrative facilities. Refuge access issues center on the improvement, maintenance, and accessibility of roads, boat ramps, entrance points, and nature trails. The administration of areas closed to public use during certain times of the year, increased parking, improved bathroom facilities, enhanced visitor displays, and additional boat ramps are also concerns.

Public Involvement

You may send comments anytime during the planning process by mail, email, or fax (see ADDRESSES). There will be additional opportunities to provide public input once we have prepared a draft CCP. Comments already received under the previous notice will be considered during preparation of the CCP/EIS. You do not need to resend these comments. The public's ideas and comments are an important part of the meaningful comments that will help determine the desired future conditions of the Refuge and address the full range of Refuge issues and opportunities.

Public Availability of Comments

Before including your address, phone number, email address, or other personal identifying information in your comment, you should be aware that your entire comment—including your personal identifying information—may be made publicly available at any time. While you can ask us in your comment to withhold your personal identifying information from public review, we cannot guarantee that we will be able to do so.

Dated: January 23, 2012.
Joy E. Nicholopoulos,
Acting Regional Director, Southwest Region.

[FR Doc. 2012-3107 Filed 2-9-12; 8:45 am]

BILLING CODE 4310-55-P